Title 3—

The President

Proclamation 10623 of September 14, 2023

National Hispanic Heritage Month, 2023

By the President of the United States of America

A Proclamation

During National Hispanic Heritage Month, we honor the diverse history of generations of Latinos, whose aspirations and achievements have shaped the soul of our Nation.

I have often said that America can be defined in one word: possibilities. The Hispanic community has always embodied that ideal. It lives in the dreams of those who have only just arrived here and in the legacy of families who have been here for centuries. Latinos have helped chart America's course since our start—as doctors and engineers; artists and entrepreneurs; and leaders in science, business, labor, government, and military and across grassroots movements. Their faith and drive have pushed our country to grow, prosper, and pursue its highest ideals.

My Administration is working to make the American Dream real for everyone, including by expanding opportunities for Latinos across the country. Since I took office, we have seen over 13 million new jobs created. Unemployment is near a 50-year low. We helped more than 2.5 million Latinos enroll in health insurance through the Affordable Care Act—that is an increase of more than 50 percent since 2020. We expanded the Child Tax Credit, which slashed child poverty by over 40 percent among Latinos to the lowest rate on record. I signed the most significant gun safety legislation in 30 years. We have invested in community colleges, Pell Grants, and Hispanic-Serving Institutions, helping more Latino students access higher education. And we have made Puerto Rico's economic recovery and development a priority by providing funding for new infrastructure and clean energy projects and upgrading their transportation.

We are doing all this by investing in America—rebuilding our Nation's roads, bridges, ports, and public transportation; replacing every lead pipe in the country; and expanding access to high-speed internet. Our historic Inflation Reduction Act is giving families more breathing room by lowering health insurance and prescription drug costs, including capping the cost of insulin at $35 a month for people with Medicare. And it makes the biggest investment ever in combating climate change while bringing environmental justice to communities of color, including Latinos, that have been exposed to legacy pollution.

At the same time, on my first day in office, I sent the Congress a plan to finally fix our Nation's broken immigration system—securing our border while building a fair, orderly, and humane process for migration that keeps families together and protects workers from exploitation. It also includes a pathway to citizenship for Dreamers, temporary status holders, and farm workers.

Throughout our work, the leadership of my four Latino Cabinet members—Secretary of Health and Human Services Xavier Becerra, Secretary of Education Miguel Cardona, Secretary of Homeland Security Alejandro Mayorkas, and Small Business Administrator Isabella Guzman—has made an immense difference. And tens of thousands of other Latinos serving our Nation continue to inspire us all—including history-makers like Supreme Court Justice Sonia Sotomayor; educators like Dr. Julieta García, to whom I awarded the Medal of Freedom; brave police officers like the fallen Wilbert Mora and Jason Rivera, who posthumously received the Medal of Valor; and the 28 Hispanic Federal judges that I nominated and have seen confirmed. And countless more are enriching our country in meaningful ways, including legendary artists like José Feliciano, Judith Baca, and Antonio Martorell—who each received the National Arts Medals—and Richard Blanco, who I awarded the National Humanities Medal.

During National Hispanic Heritage Month, we salute the vital contributions of these public servants and of the more than 62 million Latinos who help make our Nation stronger every day. Latino history is American history. It is a story of hard work, family, faith, pride, and possibility, and it is proof that there is nothing we cannot do when we do it together.

In recognition of the achievements of the Hispanic community, the Congress, by Public Law 100-402, as amended, has authorized and requested the President to issue annually a proclamation designating September 15 through October 15 as “National Hispanic Heritage Month.”

NOW, THEREFORE, I, JOSEPH R. BIDEN JR., President of the United States of America, by virtue of the authority vested in me by the Constitution and the laws of the United States, do hereby proclaim September 15 through October 15, 2023, as National Hispanic Heritage Month. I call upon all Americans to observe this month with appropriate ceremonies, activities, and programs that celebrate Hispanic heritage and recognize the impact Hispanic peoples have had on our Nation.

IN WITNESS WHEREOF, I have hereunto set my hand this fourteenth day of September, in the year of our Lord two thousand twenty-three, and of the Independence of the United States of America the two hundred and forty-eighth.

[FR Doc. 2023-20397

Filed 9-18-23; 8:45 am]

Billing code 3395-F3-P